DEPARTMENT OF COMMERCE

International Trade Administration

Initiation of Antidumping and Countervailing Duty Administrative Reviews

AGENCY: Import Administration, International Trade Administration, Department of Commerce.

SUMMARY: The Department of Commerce (the Department) has received requests to conduct administrative reviews of various antidumping and countervailing duty orders and findings with November anniversary dates. In accordance with the Department's regulations, we are initiating those administrative reviews.

EFFECTIVE DATE: December 27, 2006.

FOR FURTHER INFORMATION CONTACT: Sheila E. Forbes, Office of AD/CVD Operations, Import Administration, International Trade Administration, U.S. Department of Commerce, 14th Street and Constitution Avenue, N.W., Washington, D.C. 20230, telephone: (202) 482-4697.

SUPPLEMENTARY INFORMATION:

Background

The Department has received timely requests, in accordance with 19 CFR 351.213(b)(2004), for administrative reviews of various antidumping and countervailing duty orders and findings with November anniversary dates.

Initiation of Reviews

In accordance with section 19 CFR 351.221(c)(1)(i), we are initiating administrative reviews of the following antidumping and countervailing duty orders and findings. We intend to issue the final results of these reviews not later than November 30, 2007.

Antidumping Duty Proceedings | Period to be Reviewed
MEXICO: Circular Welded Non-Alloy Steel Pipe and Tube
A-201-805 | 11/1/05 - 10/31/06
Mueller Comercial de Mexico, S. de R.L. de C.V.
NETHERLANDS: Certain Hot-Rolled Carbon Steel Flat Products
A-421-807 | 11/1/05 - 10/31/06
Corus Staal B.V.
ROMANIA: Certain Hot-Rolled Carbon Steel Flat Products
A-485-806 | 11/1/05 - 10/31/06
Mittal Steel Galati S.A. (formerly known as S.C. Sidex S.A., including Sidex O.O. Trading S.A.)
THAILAND: Certain Hot-Rolled Carbon Steel Flat Products
A-549-817 | 11/1/05 - 10/31/06
Nakornthai Strip Mill Public Company Ltd.
G Steel Public Company Limited
THE PEOPLE'S REPUBLIC OF CHINA: Certain Hot-Rolled Carbon Steel Flat Products¹
A-570-865 | 11/1/05 - 10/31/06
Anshan Iron & Steel Group Corp.
Angang Group International Trade Corp.
Angang New Iron and Steel Co.
Angang New Steel Co., Ltd.
Angang Group Hong Kong Co., Ltd
Shanghai Baosteel International Economic & Trading Co., Ltd.
Baoshan Iron and Steel Co., Ltd.
Baosteel Group Corporation
THE PEOPLE'S REPUBLIC OF CHINA: Fresh Garlic²
A-570-831 | 11/1/05 - 10/31/06
Anqiu Friend Food Co., Ltd.
APS Qindao
Fujian Meitan Import & Export Xiamen Corporation
Golden Bridge International, Inc.
Henan Weite Industrial Co., Ltd.
Heze Ever-Best International Trade Co., Ltd. (f/k/a Shandong Heze
International Trade and Developing Company)
Hongchang Fruits & Vegetable Products
Huaiyang Hongda Dehydrated Vegetable Company
Jinxiang Dongyun Freezing Storage Co., Ltd. (a/k/a Jinxiang Eastward Shipping Import and Export Limited Company
Jining Haijiang Trading Co., Ltd.
Jining Solar Summit Trade Co., Ltd.
Jinxiang Shanyang Freezing Storage Co., Ltd.
Jinan Farmlady Trading Co., Ltd.
Jinan Yipin Corporation, Ltd.
Jining Trans-High Trading Co., Ltd.
Jinxian County Huaguang Food Import & Export Co., Ltd.
Laiwu Hongyang Trading Company Ltd.
Linshu Dading Private Agricultural Products Co., Ltd.
Omni Decor China Ltd.
Pizhou Guangda Import and Export Co., Ltd.
Qingdao Bedow Foodstuffs Co., Ltd.
Qingdao Camel Trading Co., Ltd.
Qingdao H&T Food Co., Ltd.
Qingdao Potenza Import & Export Co., Ltd.
Qingdao Xintianfeng Foods Co., Ltd. (QXF)
Qingdao Tiantaixing Foods Co., Ltd. (QTF)
Qingdao Titan Shipping LLC
Qingdao Saturn International Trade Co., Ltd.
Qingdao Shiboliang Food Co., Ltd.
Qufu Dongbao Import & Export Trade Co., Ltd.
Rizhao Xingda Foodstuffs Co., Ltd.
Shandong Chengshun Farm Produce Trading Co., Ltd.
Shandong Dongsheng Eastsun Foods Co., Ltd.
Shandong Garlic Company
Shandong Longtai Fruits and Vegetables Co., Ltd.
Shandong Wonderland Organic Food Co., Ltd.
Shanghai Ba-Shi Yuexin Logistics Development
Shanghai Ever Rich Trade Company
Shanghai LJ International Trading Co., Ltd.
Shanghai McCormick Foods Co., Ltd.
Shenzhen Fanhui Import & Export Co., Ltd.
Shenzhen Xinboda Industrial Co., Ltd.
Sunny Import & Export Limited
T&S International, LLC
Taian Fook Huat Tong Kee Pte. Ltd.
Taiyan Ziyang Food Co., Ltd.
Weifang Hongqiao International Logistic Co., Ltd.
Weifang Shennong Foodstuff Co., Ltd.
Xiang Cheng Sunny Foodstuff Factory
XuZhou Simple Garlic Industry Co., Ltd.
Zhangqui Qingyuan Vegetable Co., Ltd.
Zhengzhou Harmoni Spice Co., Ltd.
Countervailing Duty Proceedings
None.
Suspension Agreements
None.
¹ If one of the above-named companies does not qualify for a separate rate, all other exporters of certain hot-rolled carbon steel flat products from the People's Republic of China who have not qualified for a separate rate are deemed to be covered by this review as part of the single PRC entity of which the named exporters are a part
² If one of the above-named companies does not qualify for a separate rate, all other exporters of Fresh Garlic from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: December 19, 2006.
Stephen J. Claeys,
Deputy Assistant Secretary for Import Administration.

[FR Doc. E6-22177 Filed 12-26-06; 8:45 am]

BILLING CODE 3510-DS-S